DEPARTMENT OF JUSTICE

Antitrust Division

Notice Pursuant To the National Cooperative Research and Production Act of 1993—Ole for Process Control Foundation

Notice is hereby given that, on November 3, 1998, pursuant to section 6(a) of the National Cooperative Research and Production Act of 1993, 15 U.S.C. 4301 et seq. (“the Act”), Ole for Process Control Foundation (“OPC”) has filed written notifications simultaneously with the Attorney General and the Federal Trade Commission disclosing changes in its membership status. The notifications were filed for the purpose of extending the Act's provisions limiting the recovery of antitrust plaintiffs to actual damages under specified circumstances. Specifically, ABB Industrial Systems, Inc., Rochester, NY: ABF-Ind. Automation Deutschland GmbH, Martinsried, Germany; ACT Corporation, Nishikujyo, Minami-Ku, Japan; AGE GmbH, Aachen, Germany; AIGIS Systems, Inc., Caldwell, NJ; Alcatel Alsthom Recherche, Marcoussis Cedex, France; Alter Sys Inc., Longueuil, Quebec, Canada; AMA-Systems GmbH, Pforzheim, Germany; Analog Devices, Inc., Wilmington, MA; Applied Materials, Santa Clara, CA; Applied Statistics, Inc., St. Paul, MN; Asahi Electronics Co., Tokyo, Japan; Asahi Techneion Co. Ltd., Tokyo, Japan; Aspen Technology Inc., Houston, TX; Automsoft International Limited, Dublin, Ireland; Bayer Corporation, Pittsburgh, PA; Beckoff Industrie Elektronik, Verl, Germany; Bently Nevada Corporation, Minden, NV; BTG Pulp & Paper Technology AB, Saffle, Sweden; Bullet Software, Charlotte, NC; Camstar Systems, Inc., Campbell, CA; Cerberus Dati S.P.A., Milano, Italy; Chino Corporation, Tokyo, Japan; Chiyoda Corporation, Tokyo, Japan; CI Technologies Pty Limited, Hudson, FL; CIMTECH, Nivelles, Belgium; CODRA, Courtaboeuf Cedex, France; Comdale Technologies, Inc., Toronto, Ontario, Canada; CONTEC Corporation Limited, Tokyo, Japan; CSK Corporation, Tokyo, Japan; Cyberlogic Technologies, Inc., Troy, MI; Descartes Systems Sciences, Inc., Lithonia, GA; Eldridge Engineering, Inc., Spokane, WA; Elsag Bailey, Inc., Wichliffe, OH; ETM-edv Technik Muhlgassner, Eisenstadt, Austria; Eurotherm Controls, Ltd, Durringtom, Worthing West Sussex, England, United Kingdom; Eutech Cybermetics Pte, Ltd., Singapore, Singapore; EZI GesmbH, Villach, Austria; FactorySoft, Inc., Mansfield, ME; Fuji Electric Co., Ltd., Hino-City, Japan; GE Fanuc Automation North America, Inc., Charlottesville, VA; GEA Automation R&D Ltd., Dublin, Ireland; Gesytec GmbH, Aachen, Germany; Gfs mbH, Aachen, Germany; Grayhill Incorporated, LaGrange, IL; GSE Systems, Inc., Baltimore, MD; GTI-Gesellschaft fur technische Information, Marktheidenfeld, Germany; Hamamatsu Photonics K.K., Hamamatsu City, Japan; Hilscher GmbH, Hattersheim, Germany; Hitachi Ltd. and Hitachi Naka Electronics Co., Ltd., Hitachinaka Ibaraki, Japan; Huakong Technology Co. Ltd., Beiging, Peoples Republic of China; IDAX, Inc., Norfolk, VA; IDV Klingenmeier & Schrieber, Cologne, Germany; ifak system GmbH, Barleben, Germany; Indramat GmbH, Lohr am Main, Germany; InduSoft Ltd., Hilton Head, SC; Ingelectric-Team S.D., Zamudio, Spain; INOSOFT GmbH, Herford, Germany; Institut-fur Informationstechnik im, Garching, Germany; Interbus Club Germany e.V., Blomberg, Germany; Interface Corporation, Hiroshima, Japan; Intrinsyc Software, Inc., Vancouver, British Columbia, Canada; Intuitive Technology Corp., Marlboro, MA; Ishikawajima-Harima Heavy Industries Co., Ltd., Tokyo, Japan; Iwai Kikai-Kogyo Co., Ltd., Tokyo, Japan; Jetter GmbH, Ludwigsburg, Germany; JGC Corporation, Yokohama, Japan; Kaneka Engineering Corporation, Hyogo, Japan; Kawasaki Heavy Industries, Ltd., Akashi, Japan; Kepware Inc., Yarmough, ME; Klinkmann Automation Oy, Helsinki, Finland; Klopper und Wiege Software GmbH, Lemgo, Germany; Kyowa Electronic Instruments Co., Ltd., Tokyo, Japan; Kyushu Electronics System, Inc., Kitakyushu-City, Japan; Lacroix Sofrel Telecontrol, Vern Sur Seiche, France; Landis & Staefa, Inc., Buffalo Grove, IL; M-System Co., Ltd., Yokohama, Japan; Matrikon Consulting, Edmonton, Alberta, Canada; MDC Technology Limited, Riverside Park, Middlesbrough Cleveland, England, United Kingdom; Meidensha Corporation, Tokyo, Japan; Microsoft Corp., Redmond, WA; Mitsubishi Electric Corporation, Nagoya, Japan; Moore Products Company, Spring House, PA; Morinaga Milk Industry Co. Ltd., Tokyo, Japan; Nemasoft, Inc., Virginia Beach, VA; Northern Dynamic Inc., Waterloo, Ontario, Canada; Novo Nordisk Engineering, A/S, Bagsvaerd, Denmark; ObjectAutomation, Santa Ana, CA; Omega Simulation Co. Ltd., Tokyo, Japan; OMRON Corporation, Kanagawa, Japan; OMRON Software Co., Ltd., Kangawa, Japan; Ono Sokki Co., Ltd., Kangawa, Japan; ORSI Automazione S.p.A. Genova, Italy; OSI Software, Inc., San Leandro, CA; PC Soft International Ltd., Petach-Tikva, Israel; Perceptron, Inc., Plymouth, MI; Phoenix Contact GmbH & Co., Blomberg, Germany; Power Measurement Ltd., Saanichton, British Columbia, Canada; Prediktor AS, Fredrikstad, Norway; Previse Inc., Toronto, Ontario, Canada; PROFIBUS Nutzerorganisation e.V., Karsruhe, Germany; RadiSys Corporation, Hillsboro, OR; Raytheon Systems Company, State College, PA; Roboticware, Kitakatsushika-gun, Japan; Sankyo Seiki Mfg. Co., Ltd., Ina-City, Nagano-Pref., Japan; Schneider Automation SA, Seyssinet, France; Science Systems (Industrial) Ltd., Brislington, Bristol, England, United Kingdom; Serck Controls Ltd., Coventry, England, United Kingdom; SET Software Co., Ltd., Osaka, Japan; Shell Oil Products Co., Houston, TX; S.L. Corporation, Corte Madera, CA: SMAR Research Corporation, Sertaozinho San Paulo, Brazil; SMI Control Engineering Co., Ltd., Tokyo, Japan; Softing GmbH, Haar Munich, Germany; Steeplechase Software, Ann Arbor, MI; Takebishi Electric Sales Corporation, Ukyo-ku Kyoto, Japan; Tec-It Datenverarbeitung GmbH, Amstetten, Austria; Technosoftware AG, Niederleu, Switzerland; Teknedata SRL, Milano, Italy; Teletrol Systems, Inc., Manchester, NH; TEMAS Ltd., Frasnacht, Switzerland; Tetra Pak Converting Technologies AB, Lund, Sweden; Toyo Engineering Corporation (TEC), Narashino-shi Chiba, Japan; Toyoda Machine Works, Ltd., Kariya Aichi, Japan; Triconex Corporation, Irvine, CA; Tsubakimoto Chain Co, Osaka, Japan; Tsuzuki Software Co., Ltd., Tokyo, Japan; USDATA Corporation, Richardson, TX; Valmet Automation Inc., Tampere, Finland; VenturCom., Inc., Palo Alto, CA; VISCOM Visual Communications, Bern, Switzerland; VMIC Huntsville, AL; VTT Automation, Espoo, Finland; Yamatake Corporation, Tokyo, Japan; and Z System Co., Ltd., Ehime, Japan have been added as parties to this venture. Also, the following members have changed their name and/or address: Biles & Associates, Houston, TX to Simulation Sciences Inc., Houston, TX; Ci Technologies Pty Limited, Pymble, Austria to Ci Technologies Pty Limited, Hudson, FL; Johnson Yokogawa Corporation, Newnan, GA to Yokogawa Electric Corporation, Tokyo, Japan; RDI Software, Des Plaines, IL to Geneer, Des Plaines, IL; Star Enterprise, Houston, TX to Motiva Enterprise LLC, Delaware City, DE; Qualitrol International, Charlotte, NC to The Software Toolbox, Charlotte, NC; PID, Phoenix, AZ to Sequencia Corporation, Phoenix, AZ.

No other changes have been made in either the membership or planned activity of the group research project. Membership in this group research project remains open, and Ole for Process Control Foundation intends to file additional written notification disclosing all changes in membership.

On July 15, 1996, Ole for Process Control Foundation filed its original notification pursuant to section 6(a) of the Act. The Department of Justice published a notice in the Federal Register pursuant to section 6(b) of the Act on August 14, 1996 (61 FR 42269).

The last notification was filed with the Department on December 18, 1996. A notice was published in the Federal Register pursuant to section 6(b) of the Act on March 4, 1997 (62 FR 9812).

Constance K. Robinson,
Director of Operations, Antitrust Division.

[FR Doc. 00-20302 Filed 8-9-00; 8:45 am]

BILLING CODE 4410-11-M